DEPARTMENT OF JUSTICE

Antitrust Division

Notice Pursuant to the National Cooperative Research and Production Act of 1993—RailPulse, LLC

Notice is hereby given that, on April 20, 2021, pursuant to Section 6(a) of the National Cooperative Research and Production Act of 1993, 15 U.S.C. 4301 et seq. (“the Act”), RailPulse, LLC (“RailPulse”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Norfolk Southern Railway Company, Norfolk, VA; Genessee & Wyoming Inc., Darien, CT; GATX Corporation, Chicago, IL; Trinity Industries, Inc., Dallas, TX; and Watco Companies, LLC, Pittsburg, KS.

The general area of RailPulse's planned activities is as follows. RailPulse will seek to (i) collect data on rail shipments as they move on and across railroads in the North American rail network; (ii) establish a technology platform to collect data from onboard GPS and sensors to research and improve service levels, visibility, safety, and productivity and efficiency of the movement of railcars in North American rail-based supply chains; and (iii) use the technology platform that they create to provide efficiencies and safety benefits to the rail industry, rail customers, railcar owners and lessees, and the public at large and to support growth in the North American rail industry. RailPulse will not be involved in the collection of data related to pricing or other commercial terms.

Suzanne Morris,
Chief, Premerger and Division Statistics, Antitrust Division.

[FR Doc. 2021-10934 Filed 5-24-21; 8:45 am]

BILLING CODE P